NUCLEAR REGULATORY COMMISSION

Regulatory Guide; Issuance, Availability

The Nuclear Regulatory Commission has issued a supplement to a guide in its Regulatory Guide Series. This series has been developed to describe and make available to the public such information as methods acceptable to the NRC staff for implementing specific parts of the Commission's regulations, techniques used by the staff in evaluating specific problems or postulated accidents, and data needed by the staff in its review of applications for permits and licenses.

Supplement 1, “Preparation of Supplemental Environmental Reports for Applications To Renew Nuclear Power Plant Operating Licenses,” to Regulatory Guide 4.2, “Preparation of Environmental Reports for Nuclear Power Stations,” provides guidance on the format and content of an environmental report to be submitted as part of an application for renewal of a nuclear power plant operating license.

Comments and suggestions in connection with items for inclusion in guides currently being developed or improvements in all published guides are encouraged at any time. Written comments may be submitted to the Rules and Directives Branch, Division of Administrative Services, Office of Administration, U.S. Nuclear Regulatory Commission, Washington, DC 20555. For further information on the guide, contact D.P. Cleary at (301)415-3903 or by email at <DPC@NRC.GOV>.

Regulatory guides are available for inspection at the Commission's Public Document Room, 2120 L Street NW., Washington, DC. Recent regulatory guides, both draft and active, may be read or downloaded from the NRC website at http://www.nrc.gov. Copies of the supplement are also posted in NRC's Electronic Reading Room at the same site under Accession Number ML003710495. Single copies of regulatory guides may be obtained free of charge by writing the Reproduction and Distribution Services Section, OCIO, U.S. Nuclear Regulatory Commission, Washington, DC 20555-0001, or by fax to (301)415-2289, or by email to <DISTRIBUTION@NRC.GOV>. Issued guides may also be purchased from the National Technical Information Service on a standing order basis. Details on this service may be obtained by writing NTIS, 5285 Port Royal Road, Springfield, VA 22161. Regulatory guides are not copyrighted, and Commission approval is not required to reproduce them.

Authority: 5 U.S.C. 552(a).

Dated at Rockville, Maryland, this 29th day of August 2000.
For the Nuclear Regulatory Commission.
Ashok C. Thadani,
Director, Office of Nuclear Regulatory Research.

[FR Doc. 00-24019 Filed 9-18-00; 8:45 am]

BILLING CODE 7590-01-P